DEPARTMENT OF ENERGY

Federal Energy Regulatory Commission

[Docket No. RP97-28-009]

Wyoming Interstate Company, Ltd.; Notice of Negotiated Rate

January 28, 2002.

Take notice that on January 22, 2002, Wyoming Interstate Company, Ltd (WIC) tendered for filing a compliance filing pursuant to the Commission's order issued January 9, 2002 in this proceeding.

WIC states that the filing contains clarification and detailed explanation regarding the provisions of the negotiated rate transactions related to the Medicine Bow facilities.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-2476 Filed 1-31-02; 8:45 am]

BILLING CODE 6717-01-P